DEPARTMENT OF DEFENSE

Department of the Army

Draft Environmental Impact Statement Regarding Army Training Land Retention at Pōhakuloa Training Area in Hawai'i

AGENCY: Department of the Army, DoD.

ACTION: Notice of availability.

SUMMARY: The Department of the Army (Army) announces the availability of a Draft Environmental Impact Statement (Draft EIS) regarding its Proposed Action—i.e., the Army's retention of up to approximately 23,000 acres of land the Army presently leases from the State of Hawai'i. This land is located at Pōhakuloa Training Area (PTA) on the island of Hawai'i. In accordance with the National Environmental Policy Act (NEPA) and the Hawai'i Environmental Policy Act (HEPA), the Draft EIS analyzes the potential direct, indirect, and cumulative impacts of a range of reasonable alternatives that meet the purpose of and need for the Proposed Action. The Draft EIS also analyzes the potential impacts of the No-Action Alternative, under which Army use of the land would cease altogether when the lease runs out in 2029. Because the proposed retention involves state-owned land, the EIS is a joint NEPA-HEPA document. Therefore, the public review process runs concurrently and meets NEPA and HEPA requirements.

DATES: The Army invites public comments on the Draft EIS during the 60-day public comment period, which begins April 8, 2022, and ends June 7, 2022. To be considered in the Final EIS, all comments must be postmarked or received by 11:59 p.m. Hawai'i Standard Time on June 7, 2022. Public meetings will be held in April 2022 to provide information on the Draft EIS and to enhance the opportunity for public input. Public meetings will be held in accordance with current COVID-19 restrictions. Information regarding how to participate in Draft EIS public meetings and how to submit comments is available on the EIS website: https://home.army.mil/hawaii/index.php/PTAEIS.

ADDRESSES: Written comments should be submitted through the EIS website (https://home.army.mil/hawaii/index.php/PTAEIS), emailed to atlr-pta-eis@g70.design, mailed to ATLR PTA EIS Comments, P.O. Box 3444, Honolulu, HI 96801-3444, or provided during public meetings. Comments must be postmarked or received by June 7, 2022.

FOR FURTHER INFORMATION CONTACT: Mr. Michael Donnelly, Public Affairs Officer, by telephone at (808) 656-3160 or by email at michael.o.donnelly.civ@army.mil.

SUPPLEMENTARY INFORMATION: During World War II, the U.S. Marine Corps trained on the land now known as PTA. A 1956 maneuver agreement between the Territory of Hawai'i and the Army formally established PTA. In 1964, the State of Hawai'i granted the Army a 65-year lease of approximately 23,000 acres of land adjacent to PTA for military purposes. Utilities, critical infrastructure, maneuver area, and key training facilities now sit on this tract of leased land. Some of these human-made features are not available elsewhere in Hawai'i. The parcel also provides access between the PTA cantonment area and approximately 84,000 acres of adjacent, federally owned land at PTA.

The Draft EIS evaluates the potential impacts of a range of alternatives: (1) Full Retention (of approximately 23,000 acres); (2) Modified Retention (of approximately 19,700 acres); (3) Minimum Retention and Access (of approximately 10,100 acres and 11 miles of roads and training trails); and (4) No-Action Alternative (under which the lease lapses in 2029 and the Army loses access to the land).

The Draft EIS analyzes land use, biological resources, cultural resources, hazardous and toxic materials/wastes, air quality, greenhouse gases, noise, geology, topography, soils, water resources, socioeconomics, environmental justice, transportation, traffic, airspace, electromagnetic spectrum, utilities, human health, and safety.

The Draft EIS indicates that under Alternatives 1, 2, and 3, continued public access restrictions on land used for traditional and customary practices will result in significant but mitigable adverse impacts to cultural resources. These significant impacts can be mitigated through appropriate consultation with Native Hawaiians and/or other interested groups. Impacts can also be mitigated through provision of public access to promote and protect cultural beliefs, practices, and resources. Impacts to other resources are less than significant for all action alternatives. The No-Action Alternative would have significant adverse impacts on biological resources, socioeconomics, and utilities.

The Army distributed the Draft EIS to Native Hawaiian organizations, to federal, state, and local agencies/officials, and to other key stakeholders. The Draft EIS and related information are available on the EIS website at: https://home.army.mil/hawaii/index.php/PTAEIS. The public may also review the Draft EIS and select materials at the following libraries:

1. Hawai'i State Library, Hawai'i Documents Center, 478 S King Street, Honolulu, HI 96813

2. Hilo Public Library, 300 Waianuenue Avenue, Hilo, HI 96720

3. Kailua-Kona Public Library, 75-138 Hualalai Road, Kailua-Kona, HI 96740

4. Thelma Parker Memorial Public and School Library, 67-1209 Mamalahoa Highway, Kamuela, HI 96743

Native Hawaiian organizations, federal, state, and local agencies/officials, and other interested entities/individuals are encouraged to comment on the Draft EIS during the 60-day public comment period. All timely comments will be considered in the development of the Final EIS.

James W. Satterwhite,
Army Federal Register Liaison Officer.

[FR Doc. 2022-07615 Filed 4-7&ndash;22; 8:45 am]

BILLING CODE 3711-02-P